U.S.-CHINA ECONOMIC AND SECURITY REVIEW COMMISSION

Notice of Open Public Hearing

AGENCY: U.S.-China Economic and Security Review Commission.

ACTION: Notice of open public hearing—July 23, 2009, Rochester, NY

SUMMARY: Notice is hereby given of the following hearing of the U.S.-China Economic and Security Review Commission.

Name: Carolyn Bartholomew, Chairman of the U.S.-China Economic and Security Review Commission.

The Commission is mandated by Congress to investigate, assess, evaluate and report to Congress annually on the national security implications and impact of the bilateral trade and economic relationship between the United States and the People's Republic of China, and to provide recommendations, where appropriate, to Congress for legislative and administrative action.

Pursuant to this mandate, the Commission will hold a public hearing in Rochester, New York.

Background

This event is the seventh in a series of public hearings the Commission will hold during its 2009 report cycle to collect input from leading experts in government, business, industry, academia and the public on the impact of the economic and national security implications of the U.S. growing bilateral trade and economic relationship with China. The July 23 hearing is being conducted to obtain commentary on the impact of globalization and trade with China on New York State companies and communities. This hearing will address the perspectives of local government representatives, academics, and entrepreneurs, and will be co-chaired by Commissioners Dennis Shea and Patrick Mulloy.

Information on upcoming hearings, as well as transcripts of past Commission hearings, can be obtained from the USCC Web site http//www.uscc.gov.

Purpose of Hearing

The hearing is designed to assist the Commission in fulfilling its mandate by examining the impact of globalization on New York State. The hearing will also highlight the consequences for local business of competition with Chinese companies, the relocation of production to China, and the current efforts by both the New York State government, industry leaders and other institutions to promote economic growth in the region.

Copies of the hearing agenda will be made available on the Commission's Web Site http://www.uscc.gov. Any interested party may file a written statement by July 23, 2009, by mailing to the contact below.

The full day hearing will be held in two sessions, one in the morning and one in the afternoon where Commissioners will take testimony from invited witnesses. There will be a question and answer period between the Commissioners and the witnesses. Public participation is invited during an open-microphone session for public comment at the conclusion of the afternoon session. Sign-up for open-microphone session will take place in the morning of July 23 beginning at 8:45 a.m. and will be on first come, first served basis. Each individual or group making an oral presentation will be limited to a total of 5 minutes. Because of time constraints, parties with common interests are encouraged to designate a single speaker to represent their views.

Date and Time: Thursday, July 23, 2009 at 8:45 a.m. to 4:30 p.m. Eastern Daylight Time. A detailed agenda for the hearing will be posted to the Commission's Web Site http://www.uscc.gov in the near future.

ADDRESSES: The hearing will be held at the Center for Integrated Manufacturing Studies, Rochester Institute of Technology, Rochester, New York. Public seating is on a first come, first serve basis. Advance reservations are not required.

FOR FURTHER INFORMATION CONTACT: Any member of the public wishing further information concerning the hearing should contact Kathy Michels, Associate Director for the U.S.-China Economic and Security Review Commission, 444 North Capitol Street, NW., Suite 602, Washington, DC 20001; phone: 202-624-1409, or via e-mail at kmichels@uscc.gov.

Authority: Congress created the U.S.-China Economic and Security Review Commission in 2000 in the National Defense Authorization Act (Pub. L. 106-398), as amended by Division P of the Consolidated Appropriations Resolution, 2003 (Pub. L. 108-7), as amended by Pub. L. 109-108 (November 22, 2005), and Public Law 110-161 (December 26, 2007).

Dated: June 17, 2009.
Kathleen J. Michels,
Associate Director, U.S.-China Economic and Security Review Commission.

[FR Doc. E9-14562 Filed 6-19-09; 8:45 am]

BILLING CODE 1137-00-P